GENERAL ACCOUNTING OFFICE

DEPARTMENT OF JUSTICE

4 CFR Chapter II

[A.G. Order No. 2326-2000]

Federal Claims Collection Standards; Removal of Obsolete Chapter

AGENCIES: General Accounting Office; Department of Justice.

ACTION: Final rule.

SUMMARY: This final rule removes from Title 4 of the Code of Federal Regulations the Federal Claims Collection Standards (FCCS), which were issued jointly by the Department of Justice and the General Accounting Office (GAO). The GAO no longer has the statutory authority to issue or maintain the FCCS.

DATES: This rule is effective December 22, 2000.

FOR FURTHER INFORMATION CONTACT: Tom Armstrong, General Accounting Office, (202) 512-8257; or Kathleen A. Haggerty, Department of Justice, (202) 514-5343.

SUPPLEMENTARY INFORMATION: The FCCS were promulgated jointly by the Department of Justice and GAO on March 9, 1984. 49 FR 8889. The Comptroller General was removed as a co-promulgator of the FCCS by section 115(g) of the General Accounting Office Act of 1996, Public Law 104-316, 110 Stat. 3826 (Oct. 19, 1996). Consequently, the FCCS are being removed from Title 4 of the Code of Federal Regulations.

The Secretary of the Treasury was added as a co-promulgator of the FCCS with the Department of Justice under section 31001(g)(1)(C) of the Debt Collection Improvement Act of 1996, Public Law 104-134, 110 Stat. 1321, 1321-358 (Apr. 26, 1996), as part of the Omnibus Consolidated Rescissions and Appropriations Act of 1996. The revised FCCS, to be published in Title 31 of the Code of Federal Regulations, will be administered jointly by the Department of Justice and the Department of the Treasury. A final rule establishing a revised FCCS is being published elsewhere in this issue of the Federal Register.

Regulatory Analysis

Administrative Procedure Act (5 U.S.C. 553)

This rule is a rule of agency organization and is therefore exempt from the notice requirement of 5 U.S.C. 553(b), and is made effective upon issuance.

Regulatory Flexibility Act

It is hereby certified that this regulation will not have a significant economic impact on a substantial number of small entities. Accordingly, a Regulatory Flexibility Analysis is not required.

Executive Order 13132

This regulation will not have a substantial direct effect on the states, on the relationship between the national government and the states, or on distribution of power and responsibilities among the various levels of government. Therefore, in accordance with Executive Order 13132, it is determined that this regulation does not have sufficient federalism implications to warrant the preparation of a Federalism Assessment.

Unfunded Mandates Reform Act of 1995

This regulation will not result in the expenditure by state, local, and tribal governments, in the aggregate, or by the private sector, of $100 million or more in any one year, and it will not significantly or uniquely affect small governments. Therefore, no actions were deemed necessary under the provisions of the Unfunded Mandates Reform Act of 1995.

Small Business Regulatory Enforcement Fairness Act of 1996

This rule is not a major rule as defined by section 251 of the Small Business Regulatory Enforcement Act. 5 U.S.C. 804. This rule will not result in an annual effect on the economy of $100 million or more; a major increase in costs or prices; or significant adverse effects on competition, employment, investment, productivity, innovation, or on the ability of United States-based companies to compete with foreign-based companies in domestic or export markets.

Executive Order 12866

This action has been drafted and reviewed in accordance with Executive Order 12866, “Regulatory Planning and Review,” section 1(b), Principles of Regulation. This rule is limited to agency organization and management as described by Executive Order 12866 section 3(d)(3) and, therefore, is not a “regulation” or “rule” as defined by this Executive Order. Accordingly, this action has not been reviewed by the Office of Management and Budget.

Congressional Review Act

This action pertains to agency management and organization and does not substantially affect the rights or obligations of non-agency parties and, accordingly, is not a “rule” as that term is used by the Congressional Review Act (Subtitle E of the Small Business Regulatory Enforcement Fairness Act of 1996). Therefore, the reporting requirement of 5 U.S.C. 801 does not apply.

List of Subjects in 4 CFR Chapter II

Claims.

4 CFR CHAPTER II—[REMOVED]

For the reasons set out in the preamble, and under the authority of 31 U.S.C. 3711, the Federal Claims Collection Standards, chapter II of title 4, Code of Federal Regulations, consisting of parts 101 through 105, is removed.

Dated: November 8, 2000.
David M. Walker,
Comptroller General.
Janet Reno,
Attorney General.

[FR Doc. 00-29282 Filed 11-21-00; 8:45 am]

BILLING CODE 4810-26-P